DEPARTMENT OF AGRICULTURE

Federal Crop Insurance Corporation

[Docket ID FCIC-25-0035]

Notice of Request for Revision of an Approved Information Collection

AGENCY: Federal Crop Insurance Corporation, U.S. Department of Agriculture (USDA).

ACTION: Revision of an approved information collection; comment request.

SUMMARY: This notice announces a public comment period on the information collection request associated with the Multiple Peril Crop Insurance.

DATES: Comments that we receive on this notice will be accepted until close of business November 24, 2025.

ADDRESSES: We invite you to submit comments on this notice. You may submit comments by going through the Federal eRulemaking Portal as follows:

• Federal eRulemaking Portal: Go to https://www.regulations.gov and search for Docket ID FCIC-25-0035. Follow the instructions for submitting comments.

All comments will be posted without change and will be publicly available on www.regulations.gov.

FOR FURTHER INFORMATION CONTACT: Chandra Place; telephone (816) 926-3875; or email chandra.place@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Title: Multiple Peril Crop Insurance.

OMB Number: 0563-0053.

Expiration Date of Approval: March 31, 2026.

Type of Request: Renewal of a currently approved information collection.

Abstract: The information collection requirements for this renewal package are necessary for administering the Federal crop insurance program. Producers are required to report specific data when they apply for Federal crop insurance and report acreage, yields, and notices of loss. Insurance companies accept applications; issue policies; establish and provide insurance coverage; compute liability, premium, subsidies, and losses; indemnify producers; and report specific data to FCIC as required in Appendix III/M13 Handbook. Commodities for which Federal crop insurance is available are included in this information collection package.

FCIC is requesting that the Office of Management and Budget (OMB) extend the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond (such as using appropriate automated, electronic, mechanical, or other forms of information technology, e.g., permitting electronic submission of responses).

Respondents/Affected Entities: Producers and insurance companies reinsured by FCIC.

Estimated Annual Number of Respondents: 531,597.

Estimated Annual Number of Responses per Respondent: 21.372246269.

Estimated Number of Total Annual Responses per Respondent: 11,361,422.

Estimated Time per Respondent: 0.764619957 hours.

Estimated Total Annual Burden on Respondents: 8,687,170.

All responses to this notice will be summarized and included in the request for OMB approval. All comments will also become a matter of public record.

Patricia Swanson,
Manager, Federal Crop Insurance Corporation.

[FR Doc. 2025-18373 Filed 9-22-25; 8:45 am]

BILLING CODE 3410-08-P